DEPARTMENT OF THE INTERIOR

Bureau of Land Management

[CA-650-1430-ET; CACA 42078]

Notice of Intention to Relinquish; California

AGENCY: Bureau of Land Management, Interior.

ACTION: Notice.

SUMMARY: The Department of the Navy has submitted to the Bureau of Land Management a notice of intention to relinquish the withdrawn status of 42.3 acres of public land in San Bernardino County, California, that was withdrawn for military purposes by the California Desert Protection Act of 1994.

DATES: Effective June 7, 2000.

FOR FURTHER INFORMATION CONTACT: Duane Marti, (CA-931.4), California State Office, Bureau of Land Management, 2800 Cottage Way, Suite W-1834, Sacramento, California 95825-1886; 916-978-4675.

SUPPLEMENTARY INFORMATION: Notice is hereby given that the Department of the Navy has submitted, to the Bureau of Land Management, a notice of intention to relinquish the withdrawn status of 42.3 acres of public land in San Bernardino County, California, that was withdrawn for military purposes by the California Desert Protection Act of 1994. The land is no longer needed for that purpose, but is needed by the Bureau of Land Management for the expansion of the Ridgecrest Regional Wild Horse and Burro corrals.

Pursuant to section 808(b) of the California Desert Protection Act of 1994, the Navy has stated that the land was not contaminated and that no decontamination measures were required.

The Navy's notice will be processed in accordance with section 204 of the Federal Land Policy and Management Act of 1976, section 808 of the California Desert Protection Act of 1994, and the regulations set forth in 43 CFR 2370.

Dated: June 1, 2000.
David McIlnay,
Chief, Branch of Lands.

[FR Doc. 00-14269 Filed 6-6-00; 8:45 am]

BILLING CODE 4310-40-P